DEPARTMENT OF HOMELAND SECURITY

Federal Emergency Management Agency

[Docket ID FEMA-2021-0002; Internal Agency Docket No. FEMA-B-2110]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 1, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2110, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Madison County, Georgia and Incorporated Areas
Project: 18-04-0003S Preliminary Date: May 27, 2020
Unincorporated Areas of Madison County | Madison County Government Courthouse, Building and Zoning Office, 91 Albany Avenue, Danielsville, GA 30633.
Oglethorpe County, Georgia and Incorporated Areas
Project: 18-04-0003S Preliminary Date: May 27, 2020
City of Maxeys | Maxeys City Hall, 369 South Main Street, Stephens, GA 30667.
Unincorporated Areas of Oglethorpe County | Oglethorpe County Board of Commissioners Office, 105 Union Point Road, Lexington, GA 30648.
Butte-Silver Bow County, Montana (All Jurisdictions)
Project: 20-08-0038S Preliminary Date: August 28, 2020
Butte-Silver Bow County | Butte-Silver Bow Courthouse, 155 West Granite Street, Room 108, Butte, MT 59701.
Cannon County, Tennessee and Incorporated Areas
Project: 18-04-0025S Preliminary Date: February 13, 2020
Town of Woodbury | Town Hall, 101 West Water Street, Woodbury, TN 37190.
Unincorporated Areas of Cannon County | Cannon County Court House, 200 West Main Street, Woodbury, TN 37190.
Rutherford County, Tennessee and Incorporated Areas
Project: 18-04-0025S Preliminary Date: February 13, 2020
City of La Vergne | Planning and Codes Department, 5175 Murfreesboro Road, La Vergne, TN 37086.
City of Murfreesboro | City Hall, 111 West Vine Street, Murfreesboro, TN 37130.
Town of Smyrna | Town Hall, 315 South Lowry Street, Smyrna, TN 37167.
Unincorporated Areas of Rutherford County | Rutherford County Planning Department, 1 South Public Square, Room 200, Murfreesboro, TN 37130.
Wilson County, Tennessee and Incorporated Areas
Project: 18-04-0025S Preliminary Date: February 13, 2020
City of Mt. Juliet | City Hall, 2425 North Mount Juliet Road, Mt. Juliet, TN 37122.
Unincorporated Areas of Wilson County | Wilson County Court House, Planning Office, 228 East Main Street, Room 5, Lebanon, TN 37087.
Dinwiddie County, Virginia and Incorporated Areas
Project: 19-03-0016S Preliminary Date: September 30, 2020
Unincorporated Areas of Dinwiddie County | Dinwiddie County Government Center, 14010 Boydton Plank Road, Dinwiddie, VA 23841.
Fauquier County, Virginia and Incorporated Areas
Project: 14-03-3327S Preliminary Date: September 15, 2020
Town of Remington | Town Office, 105 East Main Street, Remington, VA 22734.
Town of The Plains | Post Office, 4314 Fauquier Avenue, The Plains, VA 20198.
Town of Warrenton | Town Office, 21 Main Street, Warrenton, VA 20186.
Unincorporated Areas of Fauquier County | Fauquier County GIS Department, 29 Ashby Street, Warrenton, VA 20186.
Prince William County, Virginia and Incorporated Areas
Project: 14-03-3327S Preliminary Date: September 30, 2020
City of Manassas | Public Works Building, Engineering Department, 8500 Public Works Drive, Manassas, VA 20110.
City of Manassas Park | City Hall, 1 Park Center Court, Manassas Park, VA 20111.
Town of Dumfries | Town Hall, Zoning Administrator's Office, 17739 Main Street, Suite 200, Dumfries, VA 22026.
Town of Haymarket | Town Hall, 15000 Washington Street, Suite 100, Haymarket, VA 20169.
Town of Occoquan | Town Clerk's Office, 314 Mill Street, Occoquan, VA 22125.
Town of Quantico | Town Hall, 337 5th Avenue, Quantico, VA 22134.
Unincorporated Areas of Prince William County | Prince William County Department of Public Works, Watershed Management Branch, 5 County Complex Court, Prince William, VA 22192.

[FR Doc. 2021-04143 Filed 2-26-21; 8:45 am]

BILLING CODE 9110-12-P